DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: Quarterly Services Survey (QSS).

Form Number(s): QSS-1(A), QSS-1(E), QSS-2(A), QSS-2(E), QSS-3(A), QSS-3(E), QSS-4(A), QSS-4(E), QSS-5(A), QSS-5(E).

Agency Approval Number: 0607-0907.

Type of Request: Revision of a currently approved collection.

Burden: 11,922 hours.

Number of Respondents: 13,000.

Avg. Hours per Response: 13.75 minutes.

Needs and Uses: The U.S. Census Bureau requests an extension with revision of the current OMB approval of the Quarterly Services Survey (QSS). The QSS currently canvasses and collects data from employer businesses in select service industries. These industries include information; professional, scientific and technical services; hospitals; nursing and residential care facilities; and administrative and support and waste management and remediation services industries. The QSS provides the most current reliable measures of total operating revenue and percentage of revenue by class of customer on a quarterly basis. In addition, the QSS provides the only current quarterly measure of total operating expenses from tax-exempt firms in industries that have a large not-for-profit component. All respondent data are received by mail, fax, telephone, or Internet reporting.

Before the QSS economic indicator existed for the service sector, which accounts for nearly 55 percent of all economic activity, the only data available were from the Service Annual Survey (SAS) and 5-year economic census. The QSS was developed to address and provide more up-to-date estimates of services output. Based on this effort, the QSS is a major source for the development of quarterly Gross Domestic Product (GDP) and an indicator of short-term economic change.

The total operating revenue estimates produced from the QSS provide current trends of economic service industry activity in the United States from service providers with paid employees.

In addition to revenue, we also collect total operating expenses from tax-exempt firms in industries that have a large not-for-profit component. Operating expenses provide a better measure of the economic activity of these firms. Expense estimates produced by the QSS, in addition to inpatient days and discharges for the hospital industry, are used by the Centers for Medicare and Medicaid Services (CMS) to project and study hospital regulation, Medicare payment adequacy, and other related projects.

Beginning in January 2007, the Census Bureau will expand the QSS to include coverage of truck transportation; couriers and messengers; warehousing and storage; rental and leasing; ambulatory healthcare services; social assistance; arts, entertainment, and recreation; repair and maintenance; personal and laundry services; grant making, civic, professional, and similar organizations from employer businesses.

The QSS expansion will be based on data collection from four new forms: QSS-4(A); QSS-4(E); QSS-5(A); and QSS-5(E). The QSS-4(A/E) will only ask for quarterly revenue. The QSS-5(A/E) will ask for quarterly revenue and the percentage of admissions revenue.

In year 2007, for select questionnaires, we may replace select questions with industry specific variable content. This questionnaire adjustment was proposed by the Bureau of Economic Analysis (BEA). According to the BEA, an implementation of such proposed changes would assist them in making better use of the QSS data and lead to improved estimates of Personal Consumption Expenditures (PCE) services.

The BEA is the primary Federal user of data collected in the QSS. The BEA utilizes this timely data to make improvements to the national accounts for service industries. In the National Income and Product Accounts (NIPA), the quarterly data allow more accurate estimates of both PCE and private fixed investment. For example, recently published revisions to the quarterly NIPA estimates resulted from the incorporation of new source data from the QSS. Revenue data from the QSS are also used to produce estimates of gross output by industry that allow BEA to produce a much earlier version of the gross domestic product by industry estimates.

Estimates produced from the QSS are used by the BEA as a component of quarterly GDP estimates. The estimates also provide the Federal Reserve Board (FRB) and Council of Economic Advisors (CEA) with timely information on current economic performance. All estimates collected from this survey are used extensively by various government agencies and departments on economic policy decisions; private businesses; trade organizations; professional associations; academia; and other various business research and analysis organizations

The CMS uses the QSS data to develop hospital spending estimates in the National Accounts. In addition, the QSS data improve their ability to analyze hospital spending trends. They also use the data in their healthcare indicator analysis publication; ten-year health spending forecast estimates; and studies in hospital regulation and Medicare policy, procedures, and trends.

The Medicare Payment Advisory Commission (MedPac) utilizes the QSS data to assess payment adequacy in the current Medicare program.

The FRB and the CEA use the QSS information to better assess current economic performance. In addition, other government agencies, businesses, and investors use the QSS data for market research, industry growth, business planning and forecasting.

Affected Public: Business or other for-profit, non-profit institutions.

Frequency: Quarterly.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 24, 2006.
Madeleine Clayton,
Management Analyst, Office of the Chief Information Officer.

[FR Doc. E6-14369 Filed 8-29-06; 8:45 am]

BILLING CODE 3510-07-P